DEPARTMENT OF COMMERCE

National Oceanic and Atmospheric Administration

50 CFR Part 635

[I.D. 091201C]

Atlantic Highly Migratory Species; Atlantic Bluefin Tuna Fishery

AGENCY: National Marine Fisheries Service (NMFS), National Oceanic and Atmospheric Administration (NOAA), Commerce.

ACTION: Harpoon category closure; General category adjustment of daily retention limit.

SUMMARY: NMFS has determined that the Atlantic bluefin tuna (BFT) Harpoon category annual quota for the 2001 fishing year will be attained by September 16, 2001. Therefore, the 2001 Harpoon category fishery will be closed effective at 11:30 p.m. on September 16, 2001. This action is being taken to prevent overharvest of the Harpoon category quota. NMFS has also determined that the BFT General category restricted fishing day (RFD) schedule should be adjusted; i.e., certain RFDs should be waived in order to allow for maximum utilization of the General category subquota for the September fishing period.

DATES: The Harpoon category closure is effective 11:30 p.m. local time on September 16, 2001, through May 31, 2002. The General category retention limit adjustment is effective September 16, 2001, through September 30, 2001.

FOR FURTHER INFORMATION CONTACT: Pat Scida or Brad McHale, 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635. Section 635.27 subdivides the U.S. BFT quota recommended by the International Commission for the Conservation of Atlantic Tunas among the various domestic fishing categories, and General category effort controls (including time-period subquotas and RFDs) are specified annually under 50 CFR 635.23(a) and 635.27(a). The 2001 initial category quotas and General category effort controls were specified on July 13, 2000 (66 FR 37421, July 18, 2001).

Harpoon Category Closure

NMFS is required, under § 635.28 (a)(1), to file with the Office of the Federal Register for publication notification of closure when a BFT fishing category quota is reached, or is projected to be reached. On and after the effective date and time of such notification, for the remainder of the fishing year, or for a specified period as indicated in the notice, fishing for, retaining, possessing, or landing BFT under that quota category is prohibited until the opening of the subsequent quota period or until such date as specified in the notice.

The final initial 2001 BFT quota specifications issued pursuant to § 635.27 set a quota of 55 mt of large medium and giant BFT to be harvested from the regulatory area by vessels permitted in the Harpoon category during the 2001 fishing year (66 FR 37421, July 18, 2001). The Harpoon category quota was adjusted on August 29, 2001, when 15 mt were transferred from the Reserve to the Harpoon category for an adjusted Harpoon category quota of 70 mt. Based on reported landings and effort, NMFS projects that this quota will be reached by September 16, 2001. Therefore, fishing for, retaining, possessing, or landing large medium or giant BFT by vessels in the Harpoon category must cease at 11:30 p.m. local time, Sunday, September 16, 2001.

The intent of this closure is to prevent overharvest of the quota proposed for the Harpoon category. In the event the final Harpoon category landings amount to less than the final Harpoon category quota, NMFS may consider reopening the fishery.

General Category Effort Controls

Under 50 CFR 635.23(a)(4), NMFS may increase or decrease the daily retention limit of large medium and giant BFT over a range from zero (on RFDs) to a maximum of three per vessel to allow for maximum utilization of the quota for BFT. Based on a review of dealer reports, daily landing trends, and the availability of BFT on the fishing grounds, NMFS has determined that adjustment to the General category RFD schedule, and, therefore, an increase of the daily retention limit for certain previously designated RFDs, is necessary. Therefore, NMFS adjusts the General category daily retention limit for September 16, 17, 19, 23, 24, 26, and 30, 2001, to one large medium or giant BFT per vessel. NMFS has selected these days in order to give adequate advance notice to fishery participants and NMFS enforcement.

The intent of this adjustment is to allow for maximum utilization of the General category subquotas for the September fishing period (specified under 50 CFR 635.27(a)) by General category participants in order to help achieve optimum yield in the General category fishery, to collect a broad range of data for stock monitoring purposes, and to be consistent with the objectives of the HMS FMP. For these same reasons, NMFS has already adjusted the General category daily retention limit for six previously scheduled RFDs in September, and has maintained an increased General category daily retention limit of two fish per day, since July 30, 2001 (66 FR 40151, August 2, 2001; 66 FR 46400, September 5, 2001).

While catch rates have continued to be low so far this season, catches have tended to increase in late September in past years. In order to ensure that the September subquota is not filled prematurely and to ensure equitable fishing opportunities in all areas and for all gear types, NMFS is not increasing the daily retention limit to two fish per day for the second half of September. If catch rates continue to be low, NMFS may increase the daily retention limit and/or waive the two RFDs scheduled for the first week of October.

Classification

This action is taken under §§ 635.27(a), 635.28 (a)(1), and 635.23(a)(4) and is exempt from review under Executive Order 12866.

Authority: 16 U.S.C. 971 et seq. and 1801 et seq.

Dated: September 13, 2001.
Richard W. Surdi,
Acting Director, Office of Sustainable Fisheries, National Marine Fisheries Service.

[FR Doc. 01-23262 Filed 9-13-01; 3:52 pm]

BILLING CODE 3510-22-S